DEPARTMENT OF COMMERCE

Foreign-Trade Zones Board

[Order No. 2121]

Reorganization of Foreign-Trade Zone 252 Under Alternative Site Framework, Amarillo, Texas

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR Sec. 400.2(c)) as an option for the establishment or reorganization of zones;

Whereas, the City of Amarillo, grantee of Foreign-Trade Zone 252, submitted an application to the Board (FTZ Docket B-47-2021, docketed June 22, 2021) for authority to reorganize under the ASF with a service area of Armstrong, Oldham, Potter and Randall Counties, Texas, in and adjacent to the Amarillo U.S. Customs and Border Protection port of entry, and FTZ 252's existing Sites 1 through 10 would be categorized as magnet sites;

Whereas, notice inviting public comment was given in the Federal Register (86 FR 34200-34201, June 29, 2021) and the application has been processed pursuant to the FTZ Act and the Board's regulations; and,

Whereas, the Board adopts the findings and recommendations of the examiners' report, and finds that the requirements of the FTZ Act and the Board's regulations are satisfied;

Now, therefore, the Board hereby orders:

The application to reorganize FTZ 252 under the ASF is approved, subject to the FTZ Act and the Board's regulations, including Section 400.13, to the Board's standard 2,000-acre activation limit for the zone, and to an ASF sunset provision for magnet sites that would terminate authority for Sites 2 through 10 if not activated within five years from the month of approval.

Dated: December 13, 2021.
Ryan Majerus,
Deputy Assistant Secretary for Policy and Negotiations, performing the non-exclusive functions and duties of the Assistant Secretary for Enforcement and Compliance, Alternate Chairman, Foreign-Trade Zones Board.

[FR Doc. 2021-27327 Filed 12-16-21; 8:45 am]

BILLING CODE 3510-DS-P